Proclamation 10616 of August 31, 2023

National Wilderness Month, 2023

By the President of the United States of America

A Proclamation

America's natural wonders are marvels of the world. People travel across seas and continents to behold the spirit of this great land embodied by our majestic mountains, breathtaking deserts, emerald valleys, and mighty rivers. During National Wilderness Month, we celebrate the power and promise of our country's extraordinary natural gifts and renew our commitment to protecting them for generations to come.

When we conserve our country's landscapes and wilderness, we do more than preserve their beauty for our own enjoyment. We safeguard the future of people who depend on and sustain the land as a way of life—Indigenous peoples, farmers and ranchers, recreation businesses, and rural communities. We enshrine landmarks that identify the places where the history of our Nation was made. We protect sacred spaces that have been stewarded by Tribal Nations since time immemorial. And we mitigate the impacts of climate change to help make our country more resilient.

A respect for nature's ability to support and enrich our lives has led my Administration to develop the most ambitious land and water conservation agenda in American history. During my first week in office, I issued an Executive Order establishing the country's first-ever National Conservation Goal to conserve at least 30 percent of our lands and waters by 2030. It is the cornerstone of my “America the Beautiful” campaign to support locally led and voluntary conservation and restoration efforts across the country. I also signed an Executive Order to protect America's forests, harness the power of nature in the fight against climate change, and initiate the first National Nature Assessment to evaluate the state of our lands, waters, and wildlife. And with funding through the Bipartisan Infrastructure Law and alongside the Department of Agriculture, I have created a nearly $1 billion Community Wildfire Defense grant so that communities can take steps to protect themselves from the devastation of wildfires.

With the help of critical partners in every sector, we continue to make strong progress toward these conservation and climate goals. Together, my Bipartisan Infrastructure Law and Inflation Reduction Act represent the largest investment in climate and conservation ever—accelerating the clean energy economy here at home, protecting communities from climate impacts, and creating good-paying jobs that boost our economy. The new National Monuments I have designated will protect the soaring peaks of Camp Hale in Colorado, the irreplaceable Avi Kwa Ame in Nevada, the magnificent Castner Range in Texas, and the sacred sites and lands that surround the Grand Canyon. We have conserved the ancient and vast conifers of the Tongass National Forest; safeguarded the incomparable Bristol Bay watershed in Alaska; and restored protections for Bears Ears, Grand Staircase-Escalante, and the Northeast Canyons and Seamounts National Monuments.

My Administration has protected the Boundary Waters in Minnesota and Chaco Canyon in New Mexico, and we are accelerating efforts to restore the Great Lakes, the Chesapeake Bay, the Everglades, and the Columbia River Basin. At my direction, the Secretary of Commerce has begun exploring the designation of approximately 770,000 square miles in the Pacific Ocean, an area almost three times the size of Texas, as a new national marine sanctuary to protect the integrity of our oceans. The Department of the Interior has also begun the process of preserving more than 13 million acres of lands of significant natural and cultural value in the Western Arctic. And I declared the entire United States Arctic Ocean off-limits to new oil and gas development. These landscapes and sacred spaces are precious. If they are lost, they can never be replaced.

Though these are great accomplishments, I realize we still have much more work to do to protect our wilderness. That is why we are continuing to take ambitious steps to accelerate conservation. We are coordinating across Federal agencies and encouraging collaboration with non-Federal partners to better conserve ecological connectivity and wildlife corridors. We are also partnering with Tribal Nations, working together as co-stewards of the lands that are most precious to them.

To harness the tremendous power of the ocean to help in our fight against the climate crisis, we published the first-ever United States Ocean Climate Action Plan, and the Budget I released earlier this year includes new funding to ensure our natural areas are accessible to all Americans. I want to build on legislation I signed last year that established Wilderness Act protections for more than 182,000 acres of public lands in Nevada, so I look forward to continuing to work with the Congress to advance locally led and locally supported proposals for protecting our most unique and beautiful lands and waters.

This National Wilderness Month, we renew our commitment to protecting our wilderness areas and ensuring that all their splendor is passed down from generation to generation of Americans, helping to bridge our past and our future.

NOW, THEREFORE, I, JOSEPH R. BIDEN JR., President of the United States of America, by virtue of the authority vested in me by the Constitution and the laws of the United States, do hereby proclaim September 2023 as National Wilderness Month. I encourage all Americans to experience our Nation's outdoor heritage, to recreate responsibly and leave no trace, to celebrate the value of preserving an enduring wilderness, and to strengthen our commitment to protecting these vital lands and waters now and for future generations.

IN WITNESS WHEREOF, I have hereunto set my hand this thirty-first day of August, in the year of our Lord two thousand twenty-three, and of the Independence of the United States of America the two hundred and forty-eighth.

[FR Doc. 2023-19346

Filed 9-5-23; 8:45 am]

Billing code 3395-F3-P